NUCLEAR REGULATORY COMMISSION

Final Regulatory Guide; Issuance, Availability

The U.S. Nuclear Regulatory Commission (NRC) has issued a revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

Revision 2 of Regulatory Guide 8.7, entitled “Instructions for Recording and Reporting Occupational Radiation Dose Data,” describes an acceptable program for the preparation, retention, and reporting of records of occupational radiation doses in accordance with Title 10, part 20, of the Code of Federal Regulations (10 CFR part 20), “Standards for Protection Against Radiation.” Section 20.1502 establishes “Conditions Requiring Individual Monitoring of External and Internal Occupational Dose.” Specifically, 10 CFR 20.1502 requires licensees to provide radiation monitoring for all occupationally exposed individuals who might receive a dose in excess of the specified percentage of the limits defined in 10 CFR 20.1201, 1207, or 1208. To augment that provision, 10 CFR 20.2106, “Records of Individual Monitoring Results,” requires licensees to maintain records of the radiation exposures of all individuals for whom personnel monitoring is required pursuant to 10 CFR 20.1502. Also, according to 10 CFR 20.2104, “Determination of Prior Occupational Dose,” licensees shall determine the dose in the current monitoring year for all persons who must be monitored, and attempt to obtain the records of cumulative occupational radiation dose. In addition, 10 CFR 20.2104(b) requires that, prior to permitting an individual to participate in a planned special exposure, licensees shall determine the internal and external doses from all previous planned special exposures, and record all previous doses in excess of the limits received during the lifetime of the individual. Licensees are required to maintain prior dose records on NRC Form 4 or its equivalent. Further, 10 CFR 20.2206, “Reports of Individual Monitoring,” requires certain licensees to submit to the NRC an annual report of the results of individual monitoring. Licensees are required to record these annual reports on NRC Form 5 or its equivalent.

The NRC is issuing this revision to make the guide consistent with a recent change to 10 CFR 20.2206, which allows electronic submittal of licensees' annual occupational radiation dose data via the NRC's Radiation Exposure Information and Reporting System (REIRS) for Radiation Workers (a secure Web site) at http://www.reirs.com. Other changes include updating NRC Forms 4 and 5, and clarifying and improving the guide to reflect licensees' input and experience since the NRC issued Revision 1 of Regulatory Guide 8.7 in 1992.

The NRC previously solicited public comment on this revised guide by publishing a Federal Register notice (70 FR 25865) concerning Draft Regulatory Guide DG-8029 on May 16, 2005. Following the closure of the public comment period on July 12, 2005, the staff considered all stakeholder comments in the course of preparing Revision 2 of Regulatory Guide 8.7. In particular, the Nuclear Energy Institute (NEI) suggested that the NRC consider deferring this revision until the completion of an anticipated rulemaking related to collection, reporting, and posting of information (as specified in 10 CFR parts 19, 20, and 50). However, since Regulatory Guide 8.7 is already out of date (in relation to 10 CFR 20.2206) and is used by materials licensees as well as reactor licensees, the staff decided to proceed with the current revision. When the agency completes the aforementioned rulemaking, the staff will once again update Regulatory Guide 8.7, as appropriate. The staff's responses to all comments received are available in the NRC's Agencywide Documents Access and Management System (ADAMS) at http://www.nrc.gov/reading-rm/adams.html, under Accession #ML053320145.

The NRC staff encourages and welcomes comments and suggestions in connection with improvements to published regulatory guides, as well as items for inclusion in regulatory guides that are currently being developed. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Revision 2 of Regulatory Guide 8.7 may be directed to Sheryl A. Burrows at (301) 415-6086 or by e-mail to SAB2@nrc.gov.

Regulatory guides are available for inspection or downloading through the NRC's public Web site in the Regulatory Guides document collection of the NRC's Electronic Reading Room at http://www.nrc.gov/reading-rm/doc-collections/. Electronic copies of Revision 2 of Regulatory Guide 8.7 are also available in the NRC's Agencywide Documents Access and Management System (ADAMS) at http://www.nrc.gov/reading-rm/adams.html, under Accession #ML052970092.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(Authority: (5 U.S.C. 552(a)).

Dated at Rockville, Maryland, this 30th day of November, 2005.
For the U.S. Nuclear Regulatory Commission.
Carl J. Paperiello,
Director, Office of Nuclear Regulatory Research.

[FR Doc. E5-6984 Filed 12-6-05; 8:45 am]

BILLING CODE 7590-01-P